ENVIRONMENTAL PROTECTION AGENCY

[ER-FRL-8993-2]

Environmental Impacts Statements; Notice of Availability

Responsible Agency: Office of Federal Activities, General Information (202) 564-1399 or http://www.epa.gov/compliance/nepa/.

Weekly receipt of Environmental Impact Statements

Filed 10/4/2010 through 10/8/2010

Pursuant to 40 CFR 1506.9.

Notice

In accordance with Section 309(a) of the Clean Air Act, EPA is required to make its comments on EISs issued by other Federal agencies public. Historically, EPA has met this mandate by publishing weekly notices of availability of EPA comments, which includes a brief summary of EPA's comment letters, in the Federal Register. Since February 2008, EPA has been including its comment letters on EISs on its Web site at: http://www.epa.gov/compliance/nepa/eisdata.html. Including the entire EIS comment letters on the Web site satisfies the Section 309(a) requirement to make EPA's comments on EISs available to the public. Accordingly, on March 31, 2010, EPA discontinued the publication of the notice of availability of EPA comments in the Federal Register.

EIS No. 20100400, Final EIS, NPS, WY, Jackson Hole Airport Use Agreement Extension Project, To Enable Continued Air Transportation Services, Grand Teton National Park, Teton County, WY, Wait Period Ends: 11/15/2010, Contact: Mary Gibson Scott 307-739-3300.

EIS No. 20100401, Draft EIS, BIA, CA, Manzanita Casino—Manzanita Band of Kumeyaay Indians Fee-To-Trust and Casino Facility/Hotel Project, Construction and Operation, City of Calexico, Imperial County, CA, Comment Period Ends: 12/22/2010, Contact: John Rydzik, 916-978-6051.

EIS No. 20100402, Final EIS, USFS, WV, Fernow Experimental Forest Project, To Continue Long-Term Research Studies Involving Removal of Trees, Prescribed Burning, Fertilization, and Use of Herbicides and other Management Activities to Control Invasive Plant Species, Tucker County, WV, Wait Period Ends: 11/15/2010, Contact: Mary Beth Adams, 304-478-2000 Ext 130.

EIS No. 20100403, Draft EIS, NPS, MD, Hampton National Historic Site, General Management Plan, Implementation, Baltimore County, MD, Comment Period Ends: 12/14/2010, Contact: Peter Iris-Williams, 215-597-6479.

EIS No. 20100404, Final EIS, USFS, CA, Tahoe National Forest Motorized Travel Management Project, Proposed Changes to the National Forest Transportation System, Implementation, Nevada, Placer, Plumas, Sierra, and Yuba Counties, CA, Wait Period Ends: 11/15/2010, Contact: David Arrasmith, 530-478-6220.

EIS No. 20100405, Draft EIS, USFS, MT, Beaver Creek Landscape Management Project, Vegetation Treatment, Implementation, Ashland Ranger District, Custer National Forest, Powder River County, MT, Comment Period Ends: 11/29/2010, Contact: Walt Allen, 406-784-2596.

EIS No. 20100406, Final Supplement, USACE, LA, Calcasieu River and Pass, Louisiana Dredged Material Management Plan for 20 Years While Updating and Redefining the Base Plan, Implementation, Calcasieu Ship Channel, Port of Lake Charles, Calcasieu and Cameron Parishes, LA, Wait Period Ends: 11/15/2010, Contact: Sandra Stiles, 504-862-1583.

EIS No. 20100407, Final EIS, BLM, NV, Amargosa Farm Road Solar Energy Project, Construction and Operation of Two Concentrated Solar Power Plant Facilties, Right-of-Way Application on Public Lands, Nye County, NV, Wait Period Ends: 11/15/2010, Contact: Greg Helseth, 702-515-5023.

EIS No. 20100408, Draft Supplement, MMS, AK, Chukchi Sea Planning Area, Oil and Gas Lease Sale 193, Analyzing the Environmental Impact of Natural Gas Development and Evaluate Incomplete, Missing, and Unavailable Information, Chukchi Sea, Alaska Outer Continental Shelf, AK, Comment Period Ends: 11/29/2010, Contact: Deborah Cranswick, 907-334-5267.

EIS No. 20100409, Final EIS, NRC, IA, GENERIC—License Renewal of Nuclear Plants Regarding Duane Arnold Energy Center, Supplement 42 to NUREG-1437, near the Town of Palo, Linn County, IA, Wait Period Ends: 11/15/2010, Contact: Charles Eccleston, 301-415-8537.

Amended Notices

EIS No. 20100326, Draft EIS, NPS, SD, South Unit—Badlands National Park, General Management Plan, Implementation, SD, Comment Period Ends: 10/18/2010, Contact: Eric J. Brunnemann, 605-433-5361. Revision of FR Notice Published 08/20/2010: Extending Comment Period from 10/18/2010 to 11/01/2010.

EIS No. 20100391, Final EIS, USACE, NC, Surf City and North Topsail Beach Project, To Evaluate Coastal Storm Damage Reduction, Topsail Island, Pender and Onslow Counties, NC, Wait Period Ends: 11/08/2010, Contact: Scott Nicholson, 202-761-7770. Revision to FR Notice Published 10/8/2010: Change Wait Period from 11/22/2010 to 11/08/2010 and Change Contact Name and Number to Scott Nicholson, (202)761-7770.

Dated: October 12, 2010.
Cliff Rader,
Environmental Protection Specialist, Office of Federal Activities.

[FR Doc. 2010-26073 Filed 10-14-10; 8:45 am]

BILLING CODE 6560-50-P